DEPARTMENT OF COMMERCE

International Trade Administration

The University of Akron; Notice of Decision on Application for Duty-Free Entry of Scientific Instrument

This decision is made pursuant to Section 6(c) of the Educational, Scientific, and Cultural Materials Importation Act of 1966 (Public Law 89-651, 80 Stat. 897; 15 CFR part 301). Related records can be viewed between 8:30 a.m. and 5 p.m. in Suite 4100W, U.S. Department of Commerce, Franklin Court Building, 1099 14th Street, NW, Washington, DC.

Docket Number: 02-009. Applicant: The University of Akron, Akron, OH 44325. Instrument: Shielded Room (Low Field Cage). Manufacturer: Magnetic Measurements Ltd., United Kingdom. Intended Use: See notice at 67 FR 18862, April 17, 2002.

Comments: None received. Decision: Approved. No instrument of equivalent scientific value to the foreign instrument, for such purposes as it is intended to be used, is being manufactured in the United States. Reasons: The foreign instrument provides: (1) A cage design allowing visibility of students making measurements inside, (2) very low (about 1% of ambient field) magnetic field space over a large area (up to 2 cubic meters) allowing room for several instruments and (3) ability to actively compensate for a changing magnetic field in the building using a 3-axis fluxgate magnetometer with a sensitivity of 3nT. A domestic manufacturer of similar equipment advised May 16, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-13565 Filed 5-29-02; 8:45 am]

BILLING CODE 3510-DS-P